DEPARTMENT OF ENERGY

Federal Energy Regulatory Commission

Notice of Applications for Amendment of License and Soliciting Comments, Motions To Intervene, and Protests

July 6, 2001.

Take notice that the following application has been filed with the Commission and is available for public inspection:

a. Application Type: Non-Project Use of Project Lands and Waters.

b. Project No: 1494-230.

c. Date Filed: May 31, 2001.

d. Applicant: Grand River Dam Authority (GRDA).

e. Name of Project: Pensacola Dam.

f. Location: The proposed action is located on the Grand Lake O’ The Cherokees in Section 7, Township 24 North, Range 23 East, in Delaware County, Oklahoma.

g. Filed Pursuant to: Federal Power Act, 16 USC §§ 791(a) 825(r) and §§ 799 and 801.

h. Applicant Contact: Mary E. Von Drehle, Assistant General Counsel, Grand River Dam Authority, P.O. Box 409 Vinita, Oklahoma 74301, (918) 256-5545.

i. FERC Contact: Any questions on this notice should be addressed to Mr. Brian Romanek at (202) 219-3076.

j. Deadline for filing comments and or motions: August 17, 2001.

All documents (original and eight copies) should be filed with: David P. Boergers, Secretary, Federal Energy Regulatory Commission, 888 First Street, NE., Washington DC 20426. Comments, protests and interventions may be filed electronically via the Internet in lieu of paper. See, 18 CFR 385.2001(a)(1)(iii) and the instructions on the Commission's web site under the “e-Filing” link.

Please include the specific project number (P-1494-230) on any comments or motions filed.

k. Description of Request: GRDA proposes to permit White Chapel Homeowners Association to reconfigure two docks and install a breakwater within the project boundary. Presently the docks have 14 boat slips and after construction there would be 18 boat slips. The docks would provide boat access and docking on the project reservoir for residents of the White Chapel community. The slips would be constructed adjacent to an area with about 30 existing boat slips that serve the same residential area.

l. Locations of the Application: A copy of the application is available for inspection and reproduction at the Commission's Public Reference Room, located at 888 First Street, NE., Room 2A, Washington, D.C. 20426, or by calling (202) 208-1371. Copies of this filing are on file with the Commission and are available for public inspection. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-17461 Filed 7-11-01; 8:45 am]

BILLING CODE 6717-01-P